DEPARTMENT OF LABOR

Employment Standards Administration

Proposed Collection; Comment Request

Correction

In notice document 01-31212 beginning on page 65513 in the issue of December 19, 2001, make the following correction:

On page 65513, in the third column, under the heading “DATES”, “December 19, 2001” should read “February 19, 2002”.

[FR Doc. C1-31212 Filed 12-27-01; 8:45 am]

BILLING CODE 1505-01-D